DEPARTMENT OF THE INTERIOR

Bureau of Land Management

[LLNV912000 L16400000.PH0000 LXSS006F0000 261A; 11-08807; TAS: 14X1109]

Notice of Public Meeting: Correction for Northeastern Great Basin Resource Advisory Council, NV

AGENCY: Bureau of Land Management, Interior.

ACTION: Notice of public meeting.

SUMMARY: This notice corrects the March 2011 meeting date published in the Federal Register on March 2, 2011 (76FR41) for the U.S. Department of the Interior, Bureau of Land Management, Northeastern Great Basin Resource Advisory Council.

DATES: The correct date of the meeting is Thursday, March 24, 2011.

FOR FURTHER INFORMATION CONTACT: Schirete Zick, (775) 635-4067, E-mail: szick@blm.gov.

Doran Sanchez,
Chief, Office of Communications, Nevada State Office.

[FR Doc. 2011-5299 Filed 3-8-11; 8:45 am]

BILLING CODE 4310-HC-P